DEPARTMENT OF THE INTERIOR

Bureau of Indian Affairs

Advisory Board for Exceptional Children

AGENCY: Bureau of Indian Affairs, Interior.

ACTION: Notice of meeting.

SUMMARY: In accordance with the Federal Advisory Committee Act, the Bureau of Indian Education (BIE) is announcing that the Advisory Board for Exceptional Children (Advisory Board) will hold its next meeting in Old Town, Maine. The purpose of the meeting is to meet the mandates of the Individuals with Disabilities Education Act of 2004 (IDEA) for Indian children with disabilities.

DATES: The Advisory Board will meet on Monday, May 17, 2010, from 8:30 a.m. to 4:30 p.m. and on Tuesday, May 18, 2010, from 8:30 a.m. to 3:30 p.m. Eastern Time.

ADDRESSES: The meetings will be held at the Indian Island School, 10 Wabanaki Way, Old Town, Maine 04468; telephone number (207) 827-4286.

FOR FURTHER INFORMATION CONTACT: Sue Bement, Designated Federal Officer, Bureau of Indian Education, Albuquerque Service Center, Division of Performance and Accountability, 1011 Indian School Road NW., P.O. Box 1088, Suite 332, Albuquerque, New Mexico 87103; telephone number (505) 563-5274.

SUPPLEMENTARY INFORMATION: In accordance with the Federal Advisory Committee Act (5 U.S.C. App. 2), the BIE is announcing that the Advisory Board will hold its next meeting in Old Town, Maine. The Advisory Board was established to advise the Secretary of the Interior, through the Assistant Secretary-Indian Affairs, on the needs of Indian children with disabilities, as mandated by the IDEA (20 U.S.C. 1400 et seq.). The meetings are open to the public.

The following items will be on the agenda:

• Finalize and Review Advisory Board Priorities for 2010-2011.

• Public Comment (via conference call, May 17, 2010, meeting only *).

• Report from Gloria Yepa, Supervisory Education Specialist, BIE, Division of Performance and Accountability.

• Parent Survey Update.

• School Positive Behavior Models Presentation.

• Panel Discussion with Special Education Faculty, General Education Faculty and Related Service Providers from Indian Island School, Old Town, Maine.

• Discussion and Approval of Charter and By-Laws.

• BIE Advisory Board-Advice and Recommendations.

* During the May 17, 2010, meeting, time has been set aside for public comment via conference call from 1:30-2 p.m. Eastern Time. The call-in information is: Conference Number 1-888-387-8686, Passcode 4274201.

Dated: April 27, 2010.
Donald Laverdure,
Deputy Assistant Secretary—Indian Affairs.

[FR Doc. 2010-10289 Filed 4-30-10; 8:45 am]

BILLING CODE 4310-6W-P